DEPARTMENT OF LABOR

Employment and Training Administration

[TA-W-82,308]

TE Connectivity, a Subsidiary of Tyco Electronics Corporation, Relay Products Business Unit Including On-Site Leased Workers From Kelly Services, Diversco and Hagemeyer North America Winston-Salem, North Carolina; Amended Certification Regarding Eligibility To Apply for Worker Adjustment Assistance

In accordance with Section 223 of the Trade Act of 1974, as amended (“Act”), 19 U.S.C. 2273, the Department of Labor issued a Certification of Eligibility to Apply for Worker Adjustment Assistance on March 12, 2013, applicable to workers of TE Connectivity, a subsidiary of Tyco Electronics Corporation, Relay Products Business Unit, including on-site leased workers from Kelly Services, Winston-Salem, North Carolina. The workers are engaged in activities related to the production of electromechanical relays, contactors and transformers. The notice was published in the Federal Register on April 1, 2013 (78 FR 19532).

At the request of a company official, the Department reviewed the certification for workers of the subject firm. New information from the company shows that workers leased from Diversco and Hagemeyer North America were employed on-site at the Winston-Salem, North Carolina location of TE Connectivity, a subsidiary of Tyco Electronics Corporation, Relay Products Business Unit. The Department has determined that these workers were sufficiently under the control of TE Connectivity, a subsidiary of Tyco Electronics Corporation, Relay Products Business Unit to be considered leased workers.

The intent of the Department's certification is to include all workers of the subject firm who were adversely affected by a shift in the production of electromechanical relays, contactors and transformers to a foreign country.

Based on these findings, the Department is amending this certification to include workers leased from Diversco and Hagemeyer North America working on-site at the Winston-Salem, North Carolina location of the subject firm.

The amended notice applicable to TA-W-82,308 is hereby issued as follows:

All workers from TE Connectivity, a subsidiary of Tyco Electronics Corporation, Relay Products Business Unit, including on-site leased workers from Kelly Services, Diversco and Hagemeyer North America, Winston-Salem, North Carolina, who became totally or partially separated from employment on or after December 21, 2011, through March 12, 2015, and all workers in the group threatened with total or partial separation from employment on date of certification through two years from the date of certification, are eligible to apply for adjustment assistance under Chapter 2 of Title II of the Trade Act of 1974, as amended.

Signed at Washington, DC, this April 16, 2013.
Michael W. Jaffe.
Certifying Officer, Office of Trade Adjustment Assistance.

[FR Doc. 2013-11457 Filed 5-14-13; 8:45 am]

BILLING CODE 4510-FN-P